DEPARTMENT OF ENERGY

[OE Docket No. EA-98-M]

Application To Export Electric Energy; WSPP Inc.

AGENCY: Office of Electricity Delivery and Energy Reliability, DOE.

ACTION: Notice of Application.

SUMMARY: WSPP Inc. (WSPP) has applied, on behalf of ten of its members, to renew the authority of those members to transmit electric energy from the United States to Canada, pursuant to section 202(e) of the Federal Power Act (FPA). The WSPP application also requested new export authority for two other members to transmit electric energy from the United States to Canada.

DATES: Comments, protests, or motions to intervene must be submitted on or before April 19, 2012.

ADDRESSES: Comments, protests, or motions to intervene should be addressed to: Christopher Lawrence, Office of Electricity Delivery and Energy Reliability, Mail Code: OE-20, U.S. Department of Energy, 1000 Independence Avenue SW., Washington, DC 20585-0350. Because of delays in handling conventional mail, it is recommended that documents be transmitted by overnight mail, by electronic mail to Christopher.Lawrence@hq.doe.gov, or by facsimile to 202-586-8008.

FOR FURTHER INFORMATION CONTACT: Christopher Lawrence (Program Office) at 202-586-5260, or by email to Christopher.Lawrence@hq.doe.gov.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On September 5, 1996, DOE authorized 42 members of the WSPP to export electric energy to Canada (Order No. EA-98-C). Over time, the specific members authorized to export has changed through the addition or deletion of various members in several subsequent proceedings in the EA-98 docket. Current Order No. EA-98-L was issued on May 6, 2009, and authorizes 13 WSPP member companies individually to transmit electric energy to Canada. That Order will expire on April 25, 2012.

The international transmission facilities authorized for use by those exporters are owned by the Bonneville Power Administration, also a WSPP member. The facilities consist of two 500-kV transmission lines and one 230-kV transmission line that interconnect with facilities of British Columbia Hydro and Power Authority, and one 230-kV transmission line that interconnects with West Kootenay Power, Limited. The construction, operation, maintenance, and connection of these international transmission facilities was previously authorized by Presidential Permits PP-10, PP-46, and PP-36, respectively.

WSPP filed an application with DOE on February 24, 2012, which was subsequently amended, on behalf of the following member companies for renewal of their export authority contained in Order No. EA-98-L: Avista Corporation, Edison Mission Marketing and Trading, Inc., Idaho Power Company, Northern States Power Company, PacifiCorp, Portland General Electric Company, Powerex Corporation, Public Service Company of Colorado, Puget Sound Energy, and TransCanada Energy Sales Ltd. The application, as amended, also requested new export authority for the following two members: BP Energy Company and Twin Eagle Resource Management, LLC.

WSPP also requested that DOE expedite the processing of its application in order to avoid any lapse in the export authority for some of its members. Accordingly, DOE has shortened the public comment period to 15 days.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (385.214). Five copies of such comments, protests, or motions to intervene should be sent to the address provided above on or before the date listed above.

Comments on the WSPP application to export electric energy to Canada should be clearly marked with OE Docket No. EA-98-M. An additional copy is to be filed directly with Arnold B. Podgorsky, General Counsel to WSPP and Patrick L. Morand, Associate, Wright & Talisman, P.C., 1200 G Street NW., Suite 600, Washington, DC 20005-3802. A final decision will be made on this application after the environmental impacts have been evaluated pursuant to DOE's National Environmental Policy Act Implementing Procedures (10 CFR part 1021) and after a determination is made by DOE that the proposed action will not have an adverse impact on the reliability of the U.S. electric power supply system.

Copies of this application will be made available, upon request, for public inspection and copying at the address provided above, by accessing the program Web site at http://energy.gov/node/11845 or by emailing Angela Troy at Angela.Troy@hq.doe.gov.

Issued in Washington, DC, on March 29, 2012.
Brian Mills,
Director, Permitting and Siting, Office of Electricity Delivery and Energy Reliability.

[FR Doc. 2012-8078 Filed 4-3-12; 8:45 am]

BILLING CODE 6450-01-P